DEPARTMENT OF HOUSING AND URBAN DEVELOPMENT

[Docket No. FR-5921-N-18]

Privacy Act of 1974; Notice of a Computer Matching Program Between the Department of Housing and Urban Development (HUD) and the Department of Treasury

AGENCY: Office of Administration, HUD.

ACTION: Notice of a computer matching program between HUD and the Department of the Treasury.

SUMMARY: HUD is issuing a public notice of its intent to conduct a recurring computer matching program with the U.S. Department of the Treasury (Treasury), Bureau of the Fiscal Service (Fiscal Service), Do Not Pay Business Center (DNP), for the purpose of providing information that will be used by HUD to detect suspected instances of programmatic fraud, waste, and abuse (FW&A).

DATES: Effective Date: The effective date of the matching program shall begin January 23, 2017, or at least 40 days from the date that copies of the Computer Matching Agreement, signed by both HUD and Treasury Data Integrity Boards (DIBs), are sent to OMB and Congress, whichever is later, provided that no comments that would result in a contrary determination are received.

Comments Due Date: January 23, 2017.

ADDRESSES: Interested persons are invited to submit comments regarding this notice to the Rules Docket Clerk, Office of General Counsel, Department of Housing and Urban Development, 451 Seventh Street SW., Room 10110, Washington, DC 20410. Communications should refer to the above docket number and title. A copy of each communication submitted will be available for public inspection and copying between 8:00 a.m. and 5:00 p.m. weekdays at the above address.

FOR FURTHER INFORMATION: Contact the “Recipient Agency” Helen Goff Foster, Departmental Privacy Officer, Department of Housing and Urban Development, 451 Seventh Street SW., Room 10139, Washington, DC 20410, telephone number (202) 402-6836 or the “Source Agency” Disclosure Officer, Bureau of the Fiscal Service, 401 14th Street SW., Washington, DC 20227. Email Address: David.Ambrose@fiscal.treasury.gov. A telecommunication device for hearing-and speech-impaired individuals (TTY) is available at (800) 877-8339 (Federal Relay Service).

SUPPLEMENTARY INFORMATION: (short synopsis of purpose).

CPD stated that the purpose of the match against the SAM-restricted databases is for use by the agency to determine a party's eligibility status to participate in Federal procurement and non-procurement programs and for use where the information is needed to decide on a Federal financial or non-financial assistance program or benefit. CPD also stated that the purpose of the match against the SAM-restricted and Debt Check databases database is to verify the eligibility of an individual under a Federal benefit program.

PID stated that the purpose of the match against the SAM-restricted databases is for use by the agency to determine a party's eligibility status to participate in Federal procurement and non-procurement programs and for use where the information is needed to decide on a Federal financial or non-financial assistance program or benefit. PID also stated that the purpose of the match against the SAM-restricted and Debt Check databases database is to verify the eligibility of an individual under a Federal benefit program.

MHF stated the purpose of the match against SAM Exclusion-restricted is for use by the agency to determine a party's eligibility status to participate in Federal procurement and non-procurement programs; for use where the information is needed to decide on a Federal financial or non-financial assistance program or benefit; and for use in connection with letting a contract, or issuing a license, grant, or other benefit by the requesting agency where the information is needed to decide on a Federal financial or non-financial assistance program or benefit. MFH also stated that the purpose of the match against SAM-Exclusion restricted is to verify the eligibility of an individual under a Federal benefit program.

Reporting of Matching Program

In accordance with the Privacy Act of 1974 (5 U.S.C. 552a), as amended by Public Law 100-503, the Computer Matching and Privacy Protection Act of 1988 as amended, and OMB Bulletin 89-22, “Instructions on Reporting Computer Matching Programs to the Office of Management and Budget (OMB), Congress and the Public,” copies of this notice and report are being provided to the U.S. House Committee on Oversight Government Reform, the U.S. Senate Homeland Security and Governmental Affairs Committee, and OMB.

Authority

HUD has authority to collect and review mortgage data pursuant to the National Housing Act, as amended, 12 U.S.C. 1701 et seq., and related laws. This computer matching will be conducted pursuant to Public Law 100-503, “The Computer Matching and Privacy Protection Act of 1988,” as amended, and OMB Circulars A-129 (Managing Federal Credit Programs). One of the purposes of all Executive departments and agencies is to implement efficient management practices for Federal Credit Programs. OMB Circular A-129 was issued under the authority of the Budget and Accounting Act of 1921, as amended; the Budget and Accounting Act of 1950, as amended; the Debt Collection Act of 1982, as amended by the Debt Collection Improvement Act of 1996; Section 2653 of Public Law 98-369; the Federal Credit Reform Act of 1990, as amended; the Federal Debt Collection Procedures Act of 1990, the Chief Financial Officers Act of 1990, as amended; Executive Order 8248; the Cash Management Improvement Act Amendments of 1992; and pre-existing common law authority to charge interest on debts and to offset payments to collect debts administratively.

Other authorities:

1. Improper Payments Elimination and Recovery Improvement Act of 2012 (IPERIA), 31 U.S.C. 3321 note, Public Law 112-248.

2. OMB Memorandum M-13-20, Protecting Privacy while Reducing Improper Payments with the Do Not Pay Initiative (August 16, 2013).

3. Presidential Memorandum on Enhancing Payment Accuracy through a “Do Not Pay List” (June 18, 2010).

4. Executive Order 13520, Reducing Improper Payments and Eliminating Waste in Federal Programs (November 20, 2009).

5. Improper Payment Elimination and Recovery Act of 2010, Public Law 111-204.

6. Improper Payments Information Act of 2002, 31 U.S.C. 3321 note, Public Law 107-300.

7. Federal Improper Coordination Act of 2015, Public Law 114-109.

Objectives To Be Met by the Matching Program

The objective of this matching program is that this data transfer will produce expedited eligibility determinations and will minimize administrative burdens for HUD. The benefit of this data match with respect to the HUD fraud and abuse program is the increased assurance that HUD achieves efficiencies and administrative cost savings to HUD payment, procurement, and benefit programs. This collaborative model, which offers service-based access to authoritative data, will lessen financial and administrative burdens by eliminating the need for individual HUD payment, procurement, and benefit programs to execute several CMAs with multiple Federal agencies. Description of the Match (process procedures for the layperson, which systems will be used, what happens if there's a match, what happens if there's no match) This agreement will match records from HUD's Office of Community Planning and Development (CPD) & Office of Public and Indian Housing (PIH) against SAM Entity Registry, SAM Exclusions and TOP Debt Check, and for HUD's Office of Housing, Multifamily Housing (MFH) to match against SAM Exclusions. A description of the data sources maintained by Treasury with their functions follow:

1. SAM Entity Registry Records—Verify that a vendor seeking to do business with the Federal Government has registered in accordance with the Federal Acquisition Regulation (FAR) by providing basic information relevant to procurement and financial transactions.

2. SAM Exclusion Records—Verify whether payments are to debarred individuals.

3. TOP Debt Check—Verify whether payee owes delinquent non-tax debts to Federal Government (and participating States).

Any matches between HUD records and SAM Entity Registry would indicate a vendor is registered to work with the government. Any matches between HUD records and SAM Exclusion Records and/TOP Debt Check would require further investigation by HUD before any action is taken pertaining to a beneficiary.

Records To Be Matched

HUD will use records from the PIH-01 Inventory Management System (IMS), HUD/EC-02, Departmental Tracking System, and HUD/H-11, Tenant Housing Assistance and Contract Verification Data. HUD's system of records notice repository may be found at: http://portal.hud.gov/hudportal/HUD?src=/program_offices/officeofadministration/privacy_act/pia/fednotice/SORNs_LoB.

Treasury will use records from the Department of the Treasury/Bureau of the Fiscal Service .023—Do Not Pay Payment Verification Records. Treasury's SORN repository for DNP may be found at: http://www.donotpay.treas.gov/Privacy.htm.

Notice Procedures

The Privacy Act requires Agreements to specify procedures for notifying applicants/recipients at time of registration and other periodic notice as directed by the Data Integrity Board of such agency to applicants for and recipients of financial assistance or payments under Federal benefit programs.

HUD and Treasury have both published system of records notices informing applicants/recipients that their information may be subject to verification through matching programs per 5 U.S.C. 552a(o)(1)(D). As further required by the Privacy Act, HUD shall make a copy of the Computer Matching Agreement available to the public upon request. Treasury will make a copy of the effective CMA available on DNP's Web site in accordance with OMB M-13-20 Protecting Privacy while Reducing Improper Payments with the Do Not Pay Initiative.

There are no additional notice procedures.

Categories of Records/Individuals Involved

Data elements disclosed in computer matching governed by this Agreement are Personally Identifiable Information (PII) from the aforementioned system of records. The data elements supplied by HUD to Treasury (system) follow, but are not limited to

CPD

• Name

• Taxpayer Identification Number (TIN)

• Address

• DUNs

• Registration code

PIH

• Name

• TIN

• Address

• DUNs

• SAM number

• Delinquent agency

Multifamily Housing

• Name

• TIN

• Address

• SAM number

• Exclusion Type

• Exclusion Program

• Exclusion Agency

Period of the Match

Matching will begin at least 40 days from the date that copies of the Computer Matching Agreement, signed by HUD and Treasury DIBs, are sent to both Houses of Congress and OMB; or at least 30 days from the date this notice is published in the Federal Register, whichever is later, provided that no comments that would result in a contrary determination are received. The matching program will be in effect and continue for 18 months with an option to renew for 12 additional months unless one of the Parties to the Agreement advises the other in writing to terminate or modify the Agreement.

Dated: December 14, 2016.
Helen Goff Foster,
Chief Privacy Officer/Senior Agency Official for Privacy.

[FR Doc. 2016-30914 Filed 12-22-16; 8:45 am]

BILLING CODE 4210-67-P